INTERNATIONAL TRADE COMMISSION

Notice of Possible Shutdown of Investigative Activities

AGENCY: U.S. International Trade Commission.

ACTION: Notice.

SUMMARY: Notice is hereby given that the U.S. International Trade Commission has determined to shut down its investigative activities in the event of the absence of an appropriation.

FOR FURTHER INFORMATION CONTACT: James R. Holbein, Secretary to the Commission, U.S. International Trade Commission, 500 E Street, SW., Washington, DC 20436, telephone (202) 205-2000. General information concerning the Commission may also be obtained by accessing its Internet server at http://www.usitc.gov. Hearing-impaired persons are advised that information on this matter can be obtained by contacting the Commission's TDD terminal on (202) 205-1810.

SUPPLEMENTARY INFORMATION: The Commission is issuing this notice because of the potential for an absence of an appropriation as of 12:01 a.m. on Saturday, April 9, 2011. If the Commission does not receive funding by 8:45 a.m. on Monday, April 11, 2011, the agency will shut down its investigative activities for the duration of the absence of appropriation. These activities include, but are not limited to, proceedings conducted under the authority of Title VII of the Tariff Act of 1930, including antidumping and countervailing duty investigations and reviews; investigations and ancillary proceedings conducted under the authority of section 337 of the Tariff Act of 1930; and investigations conducted under the authority of section 332 of the Tariff Act of 1930.

If a shutdown occurs, the schedules for all investigative activities will be tolled. All hearings and conferences will be postponed, subject to the exception described below. Once the Commission receives funding and the period of the shutdown ends, all schedules will resume starting with the day on which the Commission recommences operations. For example, if the shutdown lasts four days (e.g., April 11-14), then the deadline for the filing of any document on April 14 would be extended four days to April 18, 2011. If a rescheduled deadline falls on a nonbusiness day, the deadline will be extended to the next business day. The agency may reconsider schedules after resuming operations.

Notwithstanding the general tolling of schedules, each staff conference in preliminary antidumping and countervailing duty investigations scheduled to take place on April 20, 21, or 22, 2011, will take place as scheduled if the Commission resumes operations by April 14, 2011. Should the shutdown not end before April 14, 2011, all conferences will be rescheduled pursuant to the general tolling provisions described above.

The Commission's World Wide Web site, at http://www.usitc.gov, will be updated to the extent practicable to provide information on the status of the agency.

The authority for the Commission=s determination is contained in section 335 of the Tariff Act of 1930, as amended (19 U.S.C. 1335), and in 31 U.S.C. 1341 et seq.

By order of the Commission.
Issued: April 8, 2011.
James R. Holbein,
Acting Secretary to the Commission.

[FR Doc. 2011-8842 Filed 4-12-11; 8:45 am]

BILLING CODE P